DEPARTMENT OF INTERIOR

Bureau of Indian Affairs

[156A2100DD.AADD001000]

Request for Nominations of Members To Serve on the Bureau of Indian Education Advisory Board for Exceptional Children

AGENCY: Bureau of Indian Education, Interior.

ACTION: Notice of Request for Nominations.

SUMMARY: Pursuant to the Federal Advisory Committee Act—Public Law 92-463, 5 United States Code, Appendix 2, Section 10 (a) (b); and the Individuals with Disabilities Education Act of 2004 (IDEA), (20 U.S.C. 1400 et seq.), the Bureau of Indian Education (BIE) requests nominations of individuals to serve on the Advisory Board for Exceptional Children (Advisory Board). There are six positions available. The BIE will consider nominations received in response to this request for nominations, as well as other sources. The “Supplementary Information” section for this notice provides committee and membership criteria.

DATES: Please submit nominations by February 20, 2015.

ADDRESSES: Please submit nominations to Ms. Sue Bement, Designated Federal Officer (DFO), Bureau of Indian Education, Division of Performance and Accountability, 1011 Indian School Road NW., Suite 332, Albuquerque, New Mexico 87104, Telephone (505) 563-5274, or Fax to (505) 563-5281.

FOR FURTHER INFORMATION CONTACT: Ms. Sue Bement, DFO, at the address and telephone number listed above.

SUPPLEMENTARY INFORMATION: The Advisory Board was established in accordance with the Federal Advisory Committee Act, Public Law 92-463. The following provides information about the Committee, the membership and the nomination process.

1. Objective and Duties

(a) Members of the Advisory Board will provide guidance, advice and recommendations with respect to special education and related services for children with disabilities in BIE-funded schools in accordance with the requirements of IDEA;

(b) The Advisory Board will:

(1) Provide advice and recommendations for the coordination of services within the BIE and with other local, State and Federal agencies;

(2) Provide advice and recommendations on a broad range of policy issues dealing with the provision of educational services to American Indian children with disabilities;

(3) Serve as advocates for American Indian students with special education needs by providing advice and recommendations regarding best practices, effective program coordination strategies, and recommendations for improved educational programming;

(4) Provide advice and recommendations for the preparation of information required to be submitted to the Secretary of Education under 20 U.S.C. 1411 (h)(2);

(5) Provide advice and recommend policies concerning effective inter- and intra- agency collaboration, including modifications to regulations, and the elimination of barriers to inter- and intra- agency programs and activities; and

(6) Will report and direct all correspondence to the Assistant Secretary—Indian Affairs through the Director, BIE with a courtesy copy to the DFO.

2. Membership

(a) Pursuant to 20 U.S.C. 1411(h)(6), the Advisory Board will be composed of up to 15 individuals involved in or concerned with the education and provision of services to Indian infants, toddlers, children, and youth with disabilities. The Advisory Board composition will reflect a broad range of viewpoints and will include at least one member representing each of the following interests: Indians with disabilities; teachers of children with disabilities; Indian parents or guardians of children with disabilities; service providers; state education officials; local education officials; state interagency coordinating councils (for states having Indian reservations); tribal representatives or tribal organization representatives; and other members representing the various divisions and entities of BIE.

(b) The Assistant Secretary—Indian Affairs may provide the Secretary of the Interior recommendations for the chairperson; however, the chairperson and other Advisory Board members will be appointed by the Secretary of the Interior. Advisory Board members shall serve staggered terms of two years or three years from the date of their appointment.

3. Miscellaneous

(a) Members of the Advisory Board will not receive compensation, but will be reimbursed for travel, including subsistence, and other necessary expenses incurred in the performance of their duties in the same manner as persons employed intermittently in Government Service under 5 U.S.C. 5703.

(b) A member may not participate in matters that will directly affect, or appear to affect, the financial interests of the member or the member's spouse or minor children, unless authorized by the appropriate ethics official. Compensation from employment does not constitute a financial interest of the member so long as the matter before the committee will not have a special or distinct effect on the member or the member's employer, other than as part of a class. The provisions of this paragraph do not affect any other statutory or regulatory ethical obligations to which a member may be subject.

(c) The Advisory Board meets at least twice a year, budget permitting. Additional meetings may be held as deemed necessary by the Assistant Secretary—Indian Affairs or the DFO.

(d) All Committee meetings are open to the public in accordance with the Federal Advisory Committee Act regulations.

4. Nomination Information

(a) Nominations are requested from individuals, organizations, and federally recognized tribes, as well as from State Directors of Special Education (within the 23 states in which BIE-funded schools are located) concerned with the education of Indian children with disabilities as described above.

(b) Nominees should have expertise and knowledge of the issues and/or needs of American Indian children with disabilities. Such knowledge and expertise are needed to provide advice and recommendations to BIE regarding the needs of American Indian children with disabilities.

(c) A summary of the candidates' qualifications (resume or curriculum vitae) must be included with the nomination application. Nominees must have the ability to attend Advisory Board meetings, carry out Advisory Board assignments, participate in teleconference calls, and work in groups.

(d) The Department of the Interior is committed to equal opportunity in the workplace and seeks diverse Committee membership, which is bound by Indian Preference Act of 1990 (25 U.S.C. 472).

5. Basis for Nominations

If you wish to nominate someone for appointment to the Advisory Board, please do not make the nomination until the person has agreed to have his or her name submitted to the BIE for this purpose.

6. Nomination Application

Please fill out this form completely and include a copy of the nominee's resume or curriculum vitae.

7. Information Collection

This collection of information is authorized by OMB Control Number 1076-0179, “Solicitation of Nominations for the Advisory Board for Exceptional Children.

Dated: January 6, 2015.
Kevin K. Washburn,
Assistant Secretary—Indian Affairs.

BUREAU OF INDIAN EDUCATION ADVISORY BOARD FOR EXCEPTIONAL CHILDREN

MEMBERSHIP NOMINATION FORM

Nomination Information

A. Nominations are requested from individuals, organizations, and federally-recognized tribes, as well as from State Directors of Special Education (within the 23 states in which BIE-funded schools are located) concerned with the education of Indian children with disabilities as described above.

B. Nominees should have expertise and knowledge of the issues and/or needs of American Indian children with disabilities. Such knowledge and expertise are needed to provide advice and recommendations to BIE regarding the needs of American Indian children with disabilities.

C. A summary of the candidate's qualifications (resume or curriculum vitae) must be included with the nomination application. Nominees must have the ability to: (1) Attend Advisory Board meetings; (2) carry out Advisory Board assignments; (3) participate in teleconference calls; and (4) work in groups.

D. The Department of the Interior is committed to equal opportunity in the workplace and seeks diverse Committee membership; however, the Department is bound by the Indian Preference Act of 1990 (25 U.S.C. 472).

Objective and Duties

A. The Advisory Board provides guidance, advice, and recommendations with respect to special education and related services for children with disabilities in BIE-funded schools in accordance with the requirements of IDEA.

B. The Advisory Board provides advice and recommendations for the coordination of services within BIE and with other local, State and Federal agencies.

C. The Advisory Board provides advice and recommendations on a broad range of policy issues dealing with the provision of educational services to American Indian children with disabilities.

D. The Advisory Board serves as an advocate for American Indian students with special education needs by providing advice and recommendations regarding best practices, effective program coordination strategies, and recommendations for improved educational programming.

E. The Advisory Board provides advice and recommendations for the preparation of information required to be submitted to the Secretary of Education.

F. The Advisory Board provides advice and recommends policies concerning effective inter- and intra-agency collaboration, including modifications to regulations, and the elimination of barriers to inter and intra-agency programs and activities.

G. The Advisory Board reports and directs all correspondence to the Assistant Secretary—Indian Affairs through the Director of the Bureau of Indian Education with a courtesy copy to the DFO.

Membership

A. The Advisory Board shall be composed of 15 members. The Assistant Secretary-Indian Affairs may provide the Secretary of the Interior recommendations for the Chairperson. However, all Advisory Board members will be appointed by the Secretary of the Interior as required. Advisory Board members shall serve staggered terms of two years or three years from the date of their appointment. The Secretary may remove members from the Advisory Board at any time at his/her discretion.

B. As required by IDEA, the Advisory Board will be composed of individuals involved in or concerned with the education and provision of services to Indian children with disabilities. The Advisory Board composition will reflect a broad range of viewpoints and will include at least one (1) member representing each of the following interests: Indian persons with disabilities; teachers of children with disabilities; Indian parents or guardians of children with disabilities; service providers; State education officials; local education officials; State interagency coordinating councils (for states having Indian reservations); tribal representatives or tribal organization representatives; and, BIE employees concerned with the education of children with disabilities.

C. Members of the Advisory Board will not receive compensation, but will be reimbursed for travel, including subsistence and other necessary expenses incurred in the performance of their duties consistent with the provisions of 5 U.S.C. 5703.

D. A member may not participate in matters that will directly affect, or appear to affect, the financial interests of the member or the member's spouse or minor children, unless authorized by the DFO. Compensation from employment does not constitute a financial interest of the member so long as the matter before the committee will not have a special or distinct effect on the member or the member's employer, other than as part of a class. The provisions of this paragraph do not affect any other statutory or regulatory ethical obligations to which a member may be subject.

E. The Advisory Board meets at least twice a year, budget permitting. Additional meetings may be held as deemed necessary by the Assistant Secretary or the DFO.

BILLING CODE 4310-6W-P

[FR Doc. 2015-00512 Filed 1-13-15; 8:45 am]

BILLING CODE 4310-6W-C